DEPARTMENT OF ENERGY

Federal Energy Regulatory Commission

[Docket No. CP08-13-000]

Floridian Natural Gas Storage Company, LLC; Notice of Availability of the Draft Environmental Impact Statement for the Floridian Natural Gas Storage Project

March 21, 2008.

The staff of the Federal Energy Regulatory Commission (FERC or Commission) has prepared this Draft Environmental Impact Statement (EIS) for the natural gas facilities proposed by the Floridian Natural Gas Storage Company, LLC (FGS) under the above-referenced docket. FGS's proposed Floridian Natural Gas Storage Project (Project) would be located approximately two miles north of the unincorporated municipality of Indiantown in Martin County, Florida.

The Draft EIS was prepared to satisfy the requirements of the National Environmental Policy Act. The FERC staff concludes that the proposed Project, with the appropriate mitigation measures as recommended, would have limited adverse environmental impact.

The U.S. Army Corps of Engineers, the U.S. Environmental Protection Agency, and the U.S. Fish and Wildlife Service are cooperating agencies for the development of this EIS. A cooperating agency has jurisdiction by law or special expertise with respect to any environmental impact involved with the proposal and is involved in the NEPA analysis.

The general purpose of the proposed Project is to respond to the growing demand for natural gas and natural gas infrastructure in the United States, and, more specifically, in Florida. The Project would enhance access to additional, competitively-priced supplies of natural gas by providing liquefaction, storage, and vaporization services to customers in Florida and the southeastern United States.

The Draft EIS addresses the potential environmental effects of construction and operation of the facilities listed below. FGS proposes to construct and operate:

• An approximately 53.1 acre liquefied natural gas storage facility;

• An approximately 4-mile-long, 12-inch-diameter receiving pipeline to interconnect with and receive natural gas from the Gulfstream and/or Florida Power & Light (FPL) lateral pipelines;

• An approximately 4-mile-long, 24-inch-diameter sendout pipeline that would parallel the 12-inch pipeline and interconnect with and deliver natural gas from the storage facility to the Gulfstream and the FPL lateral pipelines;

• Interconnection points with the Gulfstream pipeline at milepost (MP) 4.05 and with the FPL lateral at MP 4.18; and

• A metering and regulating station.

Dependent upon Commission approval, FGS proposes to have the facilities installed and operational within 36 months of commencing construction; however, based on market conditions at the time of construction, the storage facility construction may be separated into two phases.

The Draft EIS has been placed in the public files of the FERC and is available for public inspection at: Federal Energy Regulatory Commission, Public Reference Room, 888 First Street, NE., Room 2A, Washington, DC 20426, (202) 502-8371.

A limited number of copies of the Draft EIS are available from the Public Reference Room identified above. In addition, CD-ROM copies of the Draft EIS have been mailed to affected landowners; various federal, state, and local government agencies; elected officials; environmental and public interest groups; Native American tribes; local libraries and newspapers; intervenors; and other individuals that expressed an interest in the proposed Project. Hard-copies of the Draft EIS have also been mailed to those who requested that format during the scoping and comment periods for the proposed Project.

Comment Procedures and Public Meetings

Any person wishing to comment on the Draft EIS may do so. To ensure consideration prior to a Commission decision on the proposal, it is important that the Commission receives your comments before the date specified below. Please carefully follow these instructions to ensure that your comments are received and properly recorded.

• Send an Original and two copies of your comments to: Kimberly D. Bose, Secretary, Federal Energy Regulatory Commission, 888 First Street, NE., Room 1A, Washington, DC 20002.

• Reference Docket No. CP08-13-000.

• Label one copy of the comments for the attention of Gas Branch 3.

• Mail your comments so that they will be received in Washington, DC on or before May 5, 2008.

The Commission strongly encourages electronic filing of any comments, interventions or protests to this proceeding. See 18 Code of Federal Regulations 385.2001(a)(1)(iii) and the instructions on the Commission's Web site at http://www.ferc.gov under the link to “Documents and Filings” and “eFiling.” eFiling is a file attachment process and requires that you prepare your submission in the same manner as you would if filing on paper, and save it to a file on your hard drive. New eFiling users must first create an account by clicking on “Sign up” or “eRegister.” You will be asked to select the type of filing you are making. This filing is considered a “Comment on Filing.” In addition, there is a “Quick Comment” option available, which is an easy method for interested persons to submit text only comments on a project. The Quick Comment User Guide can be viewed at http://www.ferc.gov/docs-filing/efiling/quick-comment-guide.pdf. Quick Comment does not require a FERC eRegistration account; however, you will be asked to provide a valid e-mail address. All comments submitted under either eFiling or the Quick Comment option are placed in the public record for the specified docket or project number(s).

In lieu of or in addition to sending written comments, you are invited to attend the public comment meeting the FERC will conduct in the Project area to receive comments on the Draft EIS. The meeting is scheduled for Wednesday, April 16, 2008 at 7 p.m. (EST) at the Indiantown Civic Center, 15675 SW., Osceola Street, Indiantown, FL 34956 (772-597-2886).

Interested groups and individuals are encouraged to attend and present oral comments on the Draft EIS. Transcripts of the meetings will be prepared and placed in the public file. After the comments are reviewed, significant new issues are investigated, and modifications are made to the Draft EIS, a Final EIS will be published and distributed by the FERC staff. The Final EIS will contain the staff's responses to timely comments received on the Draft EIS.

Comments will be considered by the Commission but will not serve to make the commentor a party to the proceeding. Any person seeking to become a party to the proceeding must file a motion to intervene pursuant to Rule 214 of the Commission's Rules of Practice and Procedures (18 CFR 385.214). Only intervenors have the right to seek rehearing of the Commission's decision. Anyone may intervene in this proceeding based on this Draft EIS. You must file your request to intervene as specified above.¹ You do not need intervenor status to have your comments considered.

¹ Interventions may also be filed electronically via the Internet in lieu of paper. See the previous discussion on filing comments electronically.

Additional information about the project is available from the Commission's Office of External Affairs, at 1-866-208-FERC (3372) or on the FERC Internet Web site (http://www.ferc.gov). Using the “eLibrary link,” select “General Search” and enter the project docket number excluding the last three digits (i.e., CP08-13) in the “Docket Number” field. Be sure you have selected an appropriate date range. For assistance, please contact FERC Online Support at FERCOnlineSupport@ferc.gov or toll free at 1-866-208-3676, or TTY (202) 502-8659. The eLibrary link on the FERC Internet Web site also provides access to the texts of formal documents issued by the Commission, such as orders, notices, and rule makings.

In addition, the FERC now offers a free service called eSubscription that allows you to keep track of all formal issuances and submittals in specific dockets. This can reduce the amount of time you spend researching proceedings by automatically providing you with notification of these filings, document summaries, and direct links to the documents. To register for this service, go to http://www.ferc.gov/esubscribenow.htm.

Kimberly D. Bose,
Secretary.

[FR Doc. E8-6311 Filed 3-27-08; 8:45 am]

BILLING CODE 6717-01-P